DEPARTMENT OF HEALTH AND HUMAN SERVICES

Office of the Secretary

Statement of Organization, Functions, and Delegations of Authority: Office of the Assistant Secretary for Financial Resources

AGENCY: Office of the Secretary, HHS.

ACTION: Notice.

SUMMARY: The Department of Health and Human Services (HHS) is updating a portion of one office, the Office of the Assistant Secretary for Financial Resources (ASFR), which is located within the Office of the Secretary (OS). ASFR is modifying its structure to streamline and improve operational functionality by replacing the Office of Grants and Acquisition Policy and Accountability (AMT) and establishing in its place the Office of Acquisitions (AMV), and the Office of Grants (AMU).

FOR FURTHER INFORMATION CONTACT: Jen Moughalian, Acting Assistant Secretary for Financial Resources, 200 Independence Ave. SW, Washington, DC 20201, (202) 690-6061. Part A, Office of the Secretary, Statement of Organization, Functions and Delegations of Authority for the Department of Health and Human Services (HHS) is being amended at Chapter AM, Office of Financial Resources, as last amended at 76 FR 69741-42, dated November 9, 2011, 74 FR 57679-82, dated November 9, 2009, and 74 FR 18238-39, dated April 21, 2009. This reorganization will eliminate the Office of Grants and Acquisition Policy and Accountability (AMT) within the Office of Financial Resources (ASFR) and establish the Office of Grants (AMU) and Office of Acquisitions (AMV). This reorganization will make the following changes under Chapter AM, Office of Financial Resources:

I. Under Section AM.10 Organization, delete in its entirety and replace with the following:

Section AM.10 Organization: The Office of Financial Resources is headed by the Assistant Secretary for Financial Resources (ASFR). The Assistant Secretary for Financial Resources is the Departmental Chief Financial Officer (CFO), Chief Acquisition Officer (CAO) and Performance Improvement Officer (PIO), and reports to the Secretary. The office consists of the following components:

Immediate Office of the Assistant Secretary (AM).

Office of Budget (AML).

Office of Finance (AMS).

Office of Grants (AMU).

Office of Acquisitions (AMV).

II. Under Chapter AM, “Office of the Assistant Secretary for Financial Resources,” delete Chapter AMT, “Office of Grants and Acquisition Policy and Accountability,” in its entirety and replace with the following:

Chapter AMU, Office of Grants (AMU) Section AMU.00 Mission

The Office of Grants (OG) provides Department-wide leadership, guidance, and oversight to constituent organizations, and coordinates long and short-range planning for HHS' grants management policies, practices, systems and workforce. OG provides technical assistance to the Department's OPDIVs and STAFFDIVs, evaluates effectiveness of the grants programs and processes; develops pertinent HHS-wide regulatory guidance, policies, and performance standards; maintains and reports Departmental grant/financial assistance award information; and conducts special Departmental initiatives related to grants. OG fosters collaboration, innovation, and accountability in the administration and management of the grant functions throughout the Department. The OG provides input for coordinated Department positions on proposed legislation and Government regulations specific to grant-related matters. In addition to facilitating Departmental implementation of and compliance with existing laws and regulations, OG provides Departmental and government-wide leadership on implementation of the Federal Financial Accountability and Transparency Act (FFATA) for grant activities. OG is the organizational location for Grants.gov, which provides a Government-wide electronic portal for citizens to “Find” and “Apply” for Federal grant opportunities. OG represents the Department in dealing with the Office of Management and Budget (OMB), U.S. Government Accountability Office (GAO), other Federal agencies, and Congress in the area of grant policies and management. OG also manages activities associated with the training, development, and certification of—and strategic planning for—the Department's grants management workforce.

Section AMU.10 Organization

OG is headed by a Deputy Assistant Secretary for Grants who reports to the Assistant Secretary for Financial Resources. The Deputy Assistant Secretary also serves as the Department's Senior Grants Management Official. OG consists of the following components: Immediate Office of Grants (AMU); Division of Policy Oversight and Evaluation (AMU1); Division of Systems (AMU2; Division of Workforce Development (AMU3).

Section AMU.20 Functions

1. Immediate Office of Grants (AMU). The Immediate Office of Grants consists of the Deputy Assistant Secretary and support staff who assist in the management and administration of the Office's functions, and facilitate and coordinate government wide initiatives and activities on behalf of the grant community.

2. Division of Grants Policy Oversight and Evaluation (AMU1). The Division of Policy Oversight and Evaluation (OGPOE) is headed by a Director. The Division formulates, oversees, and evaluates Department-wide implementation of grants policies governing the award and management of grants throughout HHS, in support of existing laws, regulations, and OMB Circulars. Additionally, OGPOE: (a) Develops and implements HHS grants management regulations and publishes new policies and modifications in the HHS Grants Policy Directives (GPDs), including all directives necessary to implement new intergovernmental and HHS policies; (b) Represents the Department and serves as its liaison in interagency grants policy and management activities; maintains working relationships with OMB, U.S. General Services Administration (GSA), GAO and other Federal agencies to coordinate and assist in the development of proposed legislation and policy.

3. Division of Systems (AMU2). The Division of Systems (DS) is headed by a Director. The organization consists of the following components: Grants.gov (AMU21); Grants Management Systems Branch (AMU22).

a. Grants.gov Program Management Office (AMU21). The Grants.gov Program Management Office (GPMO) is headed by a Program Manager and provides leadership to Federal and non-Federal members of the Grant Community as the system manager of Grants.gov—the government-wide central portal where citizens can find and apply for Federal grants. The GPMO manages the full life cycle of Grants.gov system operations and maintenance including short-term and long-term enhancement activities to ensure users have a reliable system to find and apply for Federal grants. In addition, the GPMO: (a) Collects and evaluates user requirements and as appropriate integrates these adaptations into system change requests which are planned and executed according to government-wide capital planning and investment control practices; (b) Leads a government-wide collaborative effort to design, build and implement the “next generation” of Grants.gov; (c) Manages and collects funds to support the full lifecycle of Grants.gov system operations, maintenance and enhancement activities; (d) Serves as a liaison to ensure coordination with OMB, Federal CIO Council, Grants Policy Committee, Grants Executive Board and HHS leadership and other oversight organizations on the government-wide electronic grants initiative; (e) Manages the clearance and revision of government-wide grant forms and data elements used on Grants.gov; and (f) Conducts and coordinates outreach and training for grants management professionals, grantees and grantors on the use and capabilities of Grants.gov.

b. Grants Management Systems (AMU22). The Grants Management Systems Branch (GMSB) is headed by a Branch Chief. This Branch plans, directs and coordinates the activities of the Office of Grants with respect to Departmental implementation of all electronic grants initiatives, such as: TAGGS, Government-wide Grants Management Line of Business, as well as management of select Grants internet and Intranet sites. GMSB represents the Department or the Office of Grants on matters of electronic assistance administration policy in dealing with recipients, OMB, other Federal agencies, and the public in general and leads Departmental coordination of grants system activities in support of the Federal Financial Accountability and Transparency Act including system interfaces with USASpending.gov.

4. Division of Workforce Development (DWD) (AMU3). Division of Workforce Development (DWD) develops strategy and related training opportunities to enhance the career development of grants management professionals both within the Department and Government-wide so as to facilitate the hiring and retention of a well-qualified and fully certified workforce of grants management professionals. DWD provides training and advice to the grants workforce across the Department and creates a training curriculum and certification program for the grants management officials across the Department. Additionally, DWD provides performance assessment Department-wide to improve workforce performance and enhance development opportunities within the workforce.

Chapter AMV, Office of Acquisitions (AMV) Section AMV.00 Mission

The Office of Acquisitions (OA) provides leadership, guidance, and oversight to constituent organizations, and coordinates long and short-range planning for HHS' acquisition practices, systems and workforce. The OA provides technical assistance to the Department's OPDIVs and STAFFDIVs; evaluates effectiveness of the acquisition programs and processes; develops pertinent HHS-wide regulatory guidance, policies, and performance standards; maintains Departmental contract award information; and conducts special Departmental initiatives related to acquisition. It also serves as the focal point for coordinating ASFR's response to cross-cutting Freedom of Information Act (FOIA) requests, audits, and reports. The OA provides input for coordinated Department positions on proposed legislation and Government regulations specific to acquisition related matters. The OA also manages activities associated with the training, development, and certification of—and strategic planning for—the Department's acquisition workforce.

Section AMV.10 Organization

OA is headed by a Deputy Assistant Secretary for Acquisitions who reports to the Assistant Secretary for Financial Resources. The Deputy Assistant Secretary also serves as the Department's Senior Procurement Executive. OA consists of the following components: Immediate Office of Acquisitions (AMV); Division Acquisition Systems, Governance, Integration & Modernization (AMV1); Division of Acquisition Policy, Governance, & Process Transformation (AMV2); the Division of Acquisition Performance & Program Management Office (AMV3); administratively supports the Office of Small and Disadvantaged Business Utilization (AMV4); and The Office of Recipient Integrity and Compliance (AMV5).

Section AMV.20 Functions

1. Immediate Office of Acquisitions (AMV). The Immediate Office of Acquisitions consists of the Deputy Assistant Secretary and support staff who assist in the management and administration of the Office's functions, and facilitate and coordinate OA-wide initiatives and activities on behalf of the acquisition community.

2. Division of Acquisition Systems, Governance, Integration & Modernization (AMV1). The Division of Acquisition Systems, Governance, and Integration & Modernization (DASGIM) is headed by a Director. DASGIM plans, directs and coordinates the activities of the Office of Acquisition with respect to Departmental implementation of all electronic acquisitions initiatives. Ensures systems comply with Federal policy as set by the Senior Procurement Executive, the DATA ACT, Buy Smarter and Accelerate. Provides oversight & maintenance & facilitation of Buy Smarter and Accelerate. Coordinates micro services development. DASGIM manages the Acquisition systems roadmap and facilitates and improves the acquisition system by: (a) Developing innovative processes and tools; (b) Acquiring, adopting, tailoring and sharing best practices.

3. Division of Acquisition Policy, Governance, & Process Transformation (AMV2). The Division of Acquisition Policy, Governance, & Process Transformation (DAPGPT) is headed by a Director. The Division provides leadership in the area of acquisition through policy development and implementation and workforce planning, development, and training. The Division is responsible for formulating Department-wide acquisition policies governing acquisition activities, publishing and maintaining the HHS Acquisition Regulation (HHSAR), participating in government-wide acquisition rule-making through the Civilian Agency Acquisition Council, providing advice and technical assistance on matters related to HHS acquisition programs, managing workforce development issues for the Department's acquisition workforce, managing the Departmental Contract Information System; and monitoring the adoption of acquisition policies by the Department's OPDIVs and Staff Divisions (STAFFDIVs) to ensure consistent policy interpretation.

4. Division of Acquisition Performance & Program Management Office (AMV3). The Division of Acquisition Performance & Program Management Office (DAPPMO) is headed by a Director and provides advice, oversight and support regarding operational acquisition and business practices and issues. This Division conducts procurement management reviews, promotes consistent and standardized business practices. DAPPMO works with the other division within OA to develop innovative processes and tools acquiring, adopting, tailoring and sharing best practices. Leads the Department's Strategic Sourcing Program and the acquisition aspects of the environmental program. DAPPMO provides expert consultation services; and manages the Department's Government Purchase Card Program. Enables and implements category management, and risk monitoring. Establishes program performance metrics. The Office serves as the Department's liaison relating to acquisition issues for OMB, Congress, GAO and the Office of the Inspector General (OIG) when requested and acts as the Ombudsman.

5. Office of Small & Disadvantaged Business Utilization (AMV4). The Office of Small & Disadvantaged Business Utilization (OSDBU) is headed by a Director who reports directly to the Deputy Secretary and is administratively supported by OA. The OSDBU fosters the use of small business as Federal contractors pursuant to Public Law 95-507 and has responsibility within the Department for policy, plans, and oversight to execute the functions under Sections 8 & 15 of the Small Business Act. The OSDBU provides leadership, policy, guidance and supervision, as well as coordinating short- and long-range strategic planning to assure that small business vendors have a fair opportunity to compete for and receive business with the Department. The Office also provides technical assistance to the Department's OPDIVs and STAFFDIVs; reviews and evaluates planned procurements to ensure that small businesses are given thorough consideration; evaluates effectiveness of the small business programs and processes; develops pertinent HHS-wide policies, guidance, and performance standards; maintains Departmental small business reports; and conducts special Departmental initiatives related to small and socioeconomic business concerns. The OSDBU manages the development and implementation of appropriate outreach programs aimed at heightening the awareness of the small business community to the contracting opportunities available within HHS. The OSDBU provides input for coordinated Department positions on proposed legislation and Government regulations on matters affecting cognizant small socioeconomic business programs. It also serves as the focal point for coordinating ASFR's response to cross-cutting Freedom of Information Act (FOIA) requests, audits, and activities related to small business related efforts and programs.

6. Office of Recipient Integrity and Compliance (AMV5). The Office of Recipient Integrity and Compliance (ORIC) provides leadership, guidance, and oversight of the Department suspension and disbarment program, and coordinates long and short-range planning for HHS' suspension and disbarment efforts. The ORIC provides technical assistance to the Department's OPDIVs and STAFFDIVs; evaluates effectiveness of the programs and processes; develops pertinent HHS-wide regulatory guidance, policies, and performance standards; maintains Departmental suspension and disbarment information; and conducts special Departmental initiatives related to recipient integrity. The ORIC processes suspension and debarment cases, issues agency protest decisions, and handles task order and metrication Ombudsmen complaints, justification and approval requests, sole source approvals, requests for waivers and organizational conflict of interest issues. The Division also handles a variety of special projects as assigned by Chief Acquisition Officer. The ORIC processes suspension and debarment cases and provides direct support to the Suspension and Debarment Official (SDO). The SDO reviews recommendations made by the ORIC, makes present responsibility determinations, and decides whether or not to take administrative actions such as suspensions or debarments.

Delegations of Authority. All delegations and re-delegations of authority made to officials and employees of affected organizational components will continue in them or their successors pending further re-delegation, provided they are consistent with this reorganization.

Scott Rowell,
Assistant Secretary for Administration.

[FR Doc. 2019-09459 Filed 5-7-19; 8:45 am]

BILLING CODE 4150-24-P